DEPARTMENT OF THE TREASURY

Internal Revenue Service

26 CFR Part 1

[REG-208254-90]

RIN 1545-AO72

Source of Compensation for Labor of Personal Services; Hearing Cancellation

AGENCY: Internal Revenue Service (IRS), Treasury.

ACTION: Cancellation of notice of public hearing on proposed rulemaking.

SUMMARY: This document provides notice of cancellation of a public hearing on proposed regulations under section 861 describing the appropriate basis for determining the source of income from labor or personal services performed partly within and partly without the United States.

DATES: The public hearing originally scheduled for Wednesday, April 19, 2000, at 10 a.m., is cancelled.

FOR FURTHER INFORMATION CONTACT: LaNita Van Dyke of the Regulations Unit, Assistant Chief Counsel (Corporate), (202) 622-7190 (not a toll-free number).

SUPPLEMENTARY INFORMATION: A notice of proposed rulemaking and notice of public hearing that appeared in the Federal Register on Friday, January 21, 2000 (64 FR 3401), announced that a public hearing was scheduled for Wednesday, April 19, 2000, at 10 a.m., in room 2615, Internal Revenue Building, 1111 Constitution Avenue, NW., Washington, DC. The subject of the public hearing is proposed regulations under section 861 of the Internal Revenue Code. The public comment period for these proposed regulations expired on Wednesday, March 29, 2000. The outlines of topics to be addressed at the hearing were due on Wednesday, March 29, 2000.

The notice of proposed rulemaking and notice of public hearing, instructed those interested in testifying at the public hearing to submit a request to speak and an outline of the topics to be addressed. As of Wednesday, April 5, 2000, no one has requested to speak. Therefore, the public hearing scheduled for Wednesday, April 19, 2000, is cancelled.

Cynthia Grigsby,
Chief, Regulations Unit, Assistant Chief Counsel (Corporate).

[FR Doc. 00-9004 Filed 4-11-00; 8:45 am]

BILLING CODE 4830-01-U